DEPARTMENT OF LABOR

Employment and Training Administration

[TA-W-50,101]

Magna Powertech, Grand Rapids, MI; Notice of Termination of Investigation

Pursuant to section 221 of the Trade Act of 1974, as amended, an investigation was initiated on November 15, 2003 in response to a worker petition filed on behalf of workers at Magna Powertech, Grand Rapids, Michigan.

The petition was signed and submitted in advance of the inception of the Trade Adjustment Assistance Reform Act of 2002 on November 4, 2002. The petition has therefore been deemed invalid. Consequently, the investigation has been terminated.

Signed in Washington, DC this 14th day of January 2003.
Richard Church,
Certifying Officer, Division of Trade Adjustment Assistance.

[FR Doc. 03-2549 Filed 2-3-03; 8:45 am]

BILLING CODE 4510-30-P